DEPARTMENT OF JUSTICE

Notice of Lodging Proposed Consent Decree

In accordance with Departmental Policy, 28 CFR 50.7, notice is hereby given that a proposed Consent Decree in United States v. Fabian, Civil Action No. 2:02-CV-495, was lodged with the United States District Court for the Northern District of Indiana on June 20, 2008.

This proposed Consent Decree concerns a complaint filed by the United States against Rowland A. Fabian pursuant to 33 U.S.C. 1319(b) and (d), to obtain injunctive relief from and impose civil penalties against him for violating the Clean Water Act by discharging pollutants without a permit into waters of the United States. The court found Mr. Fabian liable as alleged in the United States' complaint. See United States v. Fabian, 522 F. Supp. 2d 1078 (ND, Ind. 2007). The proposed Consent Decree requires payment of a civil penalty and the performance of injunctive relief.

The Department of Justice will accept written comments relating to this proposed Consent Decree for thirty (30) days from the date of publication of this Notice. Please address comments to Andrew J. Doyle, P.O. Box 23986, Washington, DC 20026-3986, and refer to United States v. Fabian, DJ #90-5-1-1-1-05741.

The proposed Consent Decree may be examined at the Clerk's Office, United States District Court for the Northern District of Indiana, 5400 Federal Plaza, Hammond, Indiana, or through the court's document filing system (with a PACER account) at https://ecf.innd.uscourts.gov, document number 131. In addition, the proposed Consent Decree may be viewed at http://www.usdoj.gov/enrd/open.html.

Dated: June 24, 2008.
Scott A. Schachter,
Assistant Chief, Environmental Defense Section, Environment & Natural Resources Division.

[FR Doc. E8-14696 Filed 6-27-08; 8:45 am]

BILLING CODE 4410-15-M